DEPARTMENT OF COMMERCE

International Trade Administration

(A-533-806, A-570-815)

Sulfanilic Acid from India and the People's Republic of China; Notice of Final Results of Expedited Sunset Reviews of Antidumping Duty Orders

AGENCY: Import Administration, International Trade Administration, Department of Commerce.

SUMMARY: On May 2, 2005, the Department of Commerce (“the Department”) initiated sunset reviews of the antidumping duty orders on sulfanilic acid from India and the People's Republic of China (“China”) pursuant to section 751(c) of the Tariff Act of 1930, as amended (“the Act”). On the basis of a Notice of Intent to Participate, adequate substantive responses filed on behalf of domestic interested parties, and lack of response from respondent interested parties, the Department conducted expedited (120-day) sunset reviews. As a result of these sunset reviews, the Department finds that revocation of the antidumping duty orders would be likely to lead to continuation or recurrence of dumping. The dumping margins are identified in the Final Results of Reviews section of this notice.

EFFECTIVE DATE: September 7, 2005.

FOR FURTHER INFORMATION CONTACT: Hilary E. Sadler, Esq. or Maureen Flannery, Office 8, AD/CVD Enforcement, Import Administration, International Trade Administration, U.S. Department of Commerce, 14th Street & Constitution Avenue, NW, Washington, DC 20230; telephone: (202) 482-4340.

SUPPLEMENTARY INFORMATION:

Background:

On May 2, 2005, the Department published the notice of initiation of the sunset reviews of the antidumping duty orders on sulfanilic acid from India and China.¹ On May 12, 2005, the Department received a Notice of Intent to Participate from Nation Ford Chemical Company (“NFC”), the domestic interested party, within the deadline specified in section 315.218(d)(1)(i) of the Department's regulations. NFC claimed interested party status under section 771(9)(C) of the Act, as a producer of the domestic-like product in the United States. On May 31, 2005, the Department received a complete substantive response from NFC within the deadline specified in section 351.218(d)(3)(i) of the Department's regulations. We did not receive responses from any respondent interested parties to this proceeding. As a result, pursuant to section 751(c)(3)(B) of the Act and section 351.218(e)(1)(ii)(C)(2) of the Department's regulations, the Department determined to conduct expedited reviews of these orders.

¹ See Initiation of Five-Year (“Sunset”) Reviews, 70 FR 22632 (May 2, 2005) (“Initiation Notice”).

Scope of the Orders:

Imports covered by this antidumping duty order are all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.22 of the Harmonized Tariff Schedule (HTS), contains 96 percent minimum sulfanilic acid, 1.0 percent maximum aniline, and 1.0 percent maximum alkali insoluble materials. Refined sulfanilic acid, also classifiable under the subheading 2921.42.22 of the HTS, contains 98 percent minimum sulfanilic acid, 0.5 percent maximum aniline and 0.25 percent maximum alkali insoluble materials.

Sodium salt (sodium sulfanilate), classifiable under the HTS subheading 2921.42.90, is a powder, granular or crystalline material which contains 75 percent minimum equivalent sulfanilic acid, 0.5 percent maximum aniline based on the equivalent sulfanilic acid content, and 0.25 percent maximum alkali insoluble materials based on the equivalent sulfanilic acid content.

The Department conducted a scope ruling regarding 3V Corporation and determined that sodium sulfanilate processed in Italy from sulfanilic acid from India was within the scope of this order. See Notice of Scope Rulings and Anticircumvention Inquiries, 65 FR 41957 (July 7, 2000).

Although the HTS subheadings are provided for convenience and customs purposes, our written description of the scope of this proceeding is dispositive.

Analysis of Comments Received:

All issues raised in these reviews are addressed in the “Issues and Decision Memorandum” (“Decision Memorandum”) from Barbara E. Tillman, Acting Deputy Assistant Secretary for Import Administration, to Joseph A. Spetrini, Acting Assistant Secretary for Import Administration, dated August 30, 2005, which is hereby adopted by this notice. The issues discussed in the Decision Memorandum include the likelihood of continuation or recurrence of dumping and the magnitude of the margins likely to prevail if the orders were revoked. Parties can find a complete discussion of all issues raised in these reviews and the corresponding recommendations in this public memorandum which is on file in room B-099 of the main Commerce Building.

In addition, a complete version of the Decision Memorandum can be accessed directly on the Web at http://ia.ita.doc.gov/frn/index.html, under the heading “September 2005.” The paper copy and electronic version of the Decision Memorandum are identical in content.

Final Results of Reviews:

We determine that revocation of the antidumping duty orders on sulfanilic acid from India and China would likely lead to continuation or recurrence of dumping at the following weighted-average percentage margins:

Manufacturers/Exporters/Producers | Weighted Average Margin (percent)
India
All Indian Manufacturers and Exporters | 114.80²
China
China National Chemicals I&E Corporation, Hebei Branch | 19.14
China-wide rate | 85.20
² The Department published its final affirmative determination of sales at less than fair value (“LTFV”) with respect to imports of sulfanilic acid from India on January 8, 1993 (58 FR 3251). In this determination, the Department published a weighted-average dumping margin for all manufacturers/producers/exporters of 114.8 percent.

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

However, consistent with section 772(d)(1)(D) of the Act, which prohibits assessing antidumping duties on the portion of the margin attributable to an export subsidy, we established an estimated antidumping duty deposit rate of 71.09 percent for duty deposit purposes. The Department issued its antidumping duty order on sulfanilic acid from India on March 2, 1993. See Notice of Antidumping Duty Order; Sulfanilic Acid from India, 58 FR 12025 (March 2, 1993). The Department has not conducted an administrative review of this order since its imposition.

Dated: August 30, 2005.
Joseph A. Spetrini,
Acting Assistant Secretary for Import Administration.

[FR Doc. E5-4866 Filed 9-6-05; 8:45 am]

Billing Code: 3510-DS-S